DEPARTMENT OF COMMERCE

National Oceanic and Atmospheric Administration

50 CFR Part 216

RIN 0648-XG306

Extension of Opening Date for Subsistence Taking of Northern Fur Seals on the Pribilof Islands; St. George Island

AGENCY: National Marine Fisheries Service (NMFS), National Oceanic and Atmospheric Administration (NOAA), Commerce.

ACTION: Temporary rule; extension of opening date.

SUMMARY: NMFS is extending the opening date of the subsistence use season of the Eastern Pacific stock of northern fur seals (Callorhinus ursinus) by opening the season on June 20, 2018, in response to a request from the Traditional Council of St. George Island, Tribal Government. The subsistence use regulations at 50 CFR 216.72(a) authorize the extension of the northern fur seal harvest earlier than the scheduled opening date of June 23. The opening of the season three days earlier is intended to provide meat for the community of St. George Island in response to the unavailability of food in the community store due to unforeseen flight cancellations and the complete consumption of fur seal meat from harvests in 2017.

DATES: The opening for the sub-adult male fur seal harvest is effective at 12:01 a.m., Alaska local time, June 20, 2018, until 11:59 p.m., Alaska local time, August 8, 2018, per the regulations at 50 CFR 216.72(d)(1).

FOR FURTHER INFORMATION CONTACT: Michael Williams, NMFS Alaska Region, 907-271-5117, michael.williams@noaa.gov.

SUPPLEMENTARY INFORMATION:

Background

St. George Island is a remote island located in the Bering Sea populated by Alaska Native residents who rely upon marine mammals as a major food source and cornerstone of their culture. Regulations issued under the authority of the Fur Seal Act authorize Pribilovians to take fur seals on the Pribilof Islands if such taking is for subsistence uses and not accomplished in a wasteful manner (50 CFR 216.71).

The residents of St. George Island are currently authorized by regulations under the FSA Section 105 (16 U.S.C. 1155) to harvest male fur seals 124.5 centimeters or less in length for subsistence use each year from June 23 to August 8. The regulation at 50 CFR 216.72(a) includes the provision that the harvests of seals on St. Paul and St. George Islands shall be treated independently for the purposes of this section. Any suspension, termination, or extension of the harvest is applicable only to the island for which it is issued. The Traditional Council of St. George Island, Tribal Government (Traditional Council) has requested that NMFS extend the opening date of the subsistence use season for sub-adult male fur seals earlier than the scheduled opening date of June 23 (50 CFR 216.72(d)(1)). The extension of the opening date is intended to respond to this emergency request. The extension will ensure additional days to conduct the subsistence harvest in order provide meat for the community of St. George Island in response to the unavailability of food in the community store due to unforeseen flight cancellations and the complete consumption of fur seal meat from harvests in 2017. NMFS has determined that the extension of the harvest to an earlier date is permissible and should be authorized.

On July 31, 1992 (57 FR 33900) NMFS issued a final rule removing the option to extend the harvest past August 8, but authorized the harvest to start on June 23 rather than June 30. NMFS anticipated in the notice (57 FR 33901, July 31, 1992) that there would be no adverse impacts on the population from an earlier June harvest because sub-adult males dominate the harvest areas on the hauling grounds at this time of year, and few if any female seals have returned to St. George Island in June. In extending the opening date for the 2018 season, NMFS does not expect that female fur seals would be accidentally killed during the few early days of the sub-adult male harvest, and there is no evidence from prior commercial or subsistence harvests that females were accidentally taken prior to mid-July (NMFS unpublished data). The subsistence use suspension and termination provisions based on female mortality remain in effect (50 CFR 216.72(f)(1)(iv) & (g)(3)).

All other regulatory controls applicable to the subsistence use of sub-adult males on St. George Island at 50 CFR 216.72(d)(1)-(5) still apply, including the total number of fur seals (500) that may be harvested per year on St. George Island (82 FR 39044, August 17, 2017).

Classification

This action responds to the urgent subsistence need of the Pribilovians on St. George Island. The Assistant Administrator for Fisheries, NOAA, (AA), determined that this rule is consistent with the Fur Seal Act (16 U.S.C. 1155) and regulations (50 CFR 216.71-216.74). The AA finds good cause to waive the requirement to provide prior notice and opportunity for public comment pursuant to the authority set forth at 5 U.S.C. 553(b)(B). Allowing prior notice and opportunity for public comment on the extension of the opening date is unnecessary because the rule establishing the extension of the opening procedures has already been subject to notice and comment, and all that remains is to notify the public of the extension of the opening date. Additionally, allowing for prior notice and opportunity for public comment for this extension of the opening date is contrary to the public interest because it requires time, thus delaying the removal of a restriction and thereby reducing socio-economic benefits to community of St. George Island. In the absence of this action, the residents of St. George Island would be prohibited from harvesting fur seals currently necessary to subsistence uses due to unforeseen events prior to the scheduled opening of the subsistence use season. For the aforementioned reasons, it is impracticable and contrary to the public interest to delay for 30 days the effective date of this action, and, accordingly, the AA also finds good cause to waive the 30-day delay in effectiveness of this action under 5 U.S.C. 553(d)(3) and to make this action effective on the date specified herein. This action is authorized by 50 CFR 216.72(a) and is exempt from review under Executive Order 12866. Because prior notice and opportunity for public comment are waived under 5 U.S.C. 553, the analytical requirements of the Regulatory Flexibility Act, 5 U.S.C. 601-612, are inapplicable.

Authority: 16 U.S.C. 1155(a).

Dated: June 20, 2018.
Samuel D. Rauch, III,
Deputy Assistant Administrator for Regulatory Programs, National Marine Fisheries Service.

[FR Doc. 2018-13576 Filed 6-20-18; 4:15 pm]

BILLING CODE 3510-22-P